NUCLEAR REGULATORY COMMISSION

10 CFR Part 51

[Docket No. PRM-51-11]

Sally Shaw; Receipt of Petition for Rulemaking

AGENCY: Nuclear Regulatory Commission.

ACTION: Petition for rulemaking; notice of receipt.

SUMMARY: The Nuclear Regulatory Commission (NRC) is publishing for public comment a notice of receipt of a petition for rulemaking, dated June 23, 2006, which was filed with the Commission by Sally Shaw. The petition was docketed by the NRC on November 1, 2006, and has been assigned Docket No. PRM-51-11. The petitioner requests that the NRC prepare a rulemaking that will require that the NRC reconcile its generic environmental impact statement for nuclear power plant operating license renewal applications with the National Academy of Sciences Health Risks From Exposure to Low Levels of Ionizing Radiation: Biological Effects of Ionizing Radiation (BEIR) VII Phase 2 Report.

DATE: Submit comments by February 5, 2007. Comments received after this date will be considered if it is practical to do so, but the Commission is able to assure consideration only for comments received on or before this date.

ADDRESSES: You may submit comments on this petition by any one of the following methods. Mail comments to: Secretary, U.S. Nuclear Regulatory Commission, Washington, DC 20555-0001, ATTN: Rulemakings and Adjudications Staff.

E-mail comments to: SECY@nrc.gov. If you do not receive a reply e-mail confirming that we have received your comments, contact us directly at (301) 415-1966. You may also submit comments via the NRC's rulemaking Web site at http://ruleforum.llnl.gov. Address questions about our rulemaking Web site to Carol Gallagher (301) 415-5905; e-mail cag@nrc.gov. Comments can also be submitted via the Federal eRulemaking Portal http://www.regulations.gov.

Hand deliver comments to: 11555 Rockville Pike, Rockville, Maryland 20852, between 7:30 a.m. and 4:15 p.m. Federal workdays. (Telephone (301) 415-1966).

Fax comments to: Secretary, U.S. Nuclear Regulatory Commission at (301) 415-1101.

Please include PRM-51-11 in the subject line of your comments. Comments on petitions submitted in writing or in electronic form will be made available for public inspection. Because your comments will not be edited to remove any identifying or contact information, the NRC cautions you against including any information in your submission that you do not want to be publicly disclosed.

Publicly available documents related to this petition may be viewed electronically on the public computers located at the NRC's Public Document Room (PDR), Room O1 F21, One White Flint North, 11555 Rockville Pike, Rockville, Maryland. The PDR reproduction contractor will copy documents for a fee. Selected documents, including comments, may be viewed and downloaded electronically via the NRC rulemaking Web site at http://ruleforum.llnl.gov.

Publicly available documents created or received at the NRC after November 1, 1999, are available electronically at the NRC's Electronic Reading Room at http://www.nrc.gov/reading-rm/adams.html. From this site, the public can gain entry into the NRC's Agencywide Document Access and Management System (ADAMS), which provides text and image files of NRC's public documents. If you do not have access to ADAMS or if there are problems in accessing the documents located in ADAMS, contact the PDR Reference staff at 1-800-397-4209, 301-415-4737 or by e-mail to pdr@nrc.gov.

A copy of the petition can be found in ADAMS under accession number ML061770056. A paper copy of the petition may be obtained by contacting Betty Golden, Office of Administration, Nuclear Regulatory Commission, Washington DC 20555-0001, telephone 301-415-6863, toll-free 1-800-368-5642, or by e-mail bkg2@nrc.gov.

FOR FURTHER INFORMATION CONTACT: Michael T. Lesar, Chief, Rulemaking, Directives and Editing Branch, Division of Administrative Services, Office of Administration, U.S. Nuclear Regulatory Commission, Washington, DC 20555-0001, telephone: 301-415-7163 or toll-free: 1-800-368-5642.

SUPPLEMENTARY INFORMATION:

Background

Entergy Nuclear Operations, Inc. (Entergy) submitted an application for renewal of Operating License No. DPR-28 for an additional 20 years of operation at the Vermont Yankee Nuclear Power Station (VYNPS). The VYNPS is located in the town of Vernon, Vermont, in Windham County on the west shore of the Connecticut River immediately upstream of the Vernon Hydroelectric Station. The operating license for VYNPS expires on March 21, 2012. A notice of receipt and availability of the application, which included the environmental report, was published in the Federal Register on February 6, 2006 (71 FR 6102). Subsequently, the NRC published a “Notice of Intent to Prepare an Environmental Impact Statement and Conduct Scoping Process” on April 21, 2006 (71 FR 20733). The NRC will prepare an EIS related to the review of the license renewal application.

The applicable NRC regulation, 10 CFR 51.95(c), required that the NRC, in determining whether to grant a renewal of a nuclear power plant operating license, prepare an environmental impact statement (EIS). The regulation provides that this EIS supplement the NRC's baseline, generic EIS issued in 1996, NUREG-1437, “Generic Environmental Impact Statement for License Renewal of Nuclear Plants” (May 1996)(GEIS).

Petitioner's Request

The petitioner requests that the NRC prepare a rulemaking that would require that the NRC reconcile its GEIS for nuclear power plant operating license renewal applications with the National Academy of Sciences (NAS) Health Risks From Exposure to Low Levels of Ionizing Radiation: BEIR VII, Phase 2 which was released in 2005. The petitioner asserts that the GEIS relies upon an earlier NAS report, the BEIR V, with was released in 1990. According to the NAS Web site, the BEIR VII updates the information contained in the BEIR V and draws upon new data in both epidemiologic and experimental research.

The petitioner requests that NRC consider the NAS BEIR VII report as new and significant information and recalculate certain conclusions set forth in the GEIS, including early fatalities, latent fatalities and any injury projections based on this information.

Dated at Rockville, Maryland, this 14th day of November 2006.
For the Nuclear Regulatory Commission.
Annette L. Vietti-Cook,
Secretary of the Commission.

[FR Doc. E6-19568 Filed 11-17-06; 8:45 am]

BILLING CODE 7590-01-P